DEPARTMENT OF THE TREASURY

Office of Foreign Assets Control

31 CFR Part 583

Publication of Global Magnitsky Sanctions Regulations Web General Licenses 1, 2, and Subsequent Iterations

AGENCY: Office of Foreign Assets Control, Treasury.

ACTION: Publication of web general licenses.

SUMMARY: The Department of the Treasury's Office of Foreign Assets Control (OFAC) is publishing four general licenses (GLs) issued pursuant to the Global Magnitsky Sanctions Regulations: GLs 1, 1A, 2, and 2A, each of which was previously made available on OFAC's website.

DATES: GL 1 was issued on December 9, 2019. See SUPPLEMENTARY INFORMATION for additional relevant dates.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: https://ofac.treasury.gov.

Background

On December 9, 2019, OFAC issued GL 1 to authorize certain transactions otherwise prohibited by the Global Magnitsky Sanctions Regulations, 31 CFR part 583 (“the Regulations”). Subsequently, on December 18, 2019, OFAC issued GL 1A, which superseded GL 1. On July 31, 2020, OFAC issued GL 2, also authorizing certain transactions otherwise prohibited by the Regulations. On September 25, 2020, OFAC issued GL 2A, which superseded GL 2. Each GL was made available on OFAC's website (https://ofac.treasury.gov) when it was issued. Each of these GLs is now expired. The text of these GLs is provided below.

OFFICE OF FOREIGN ASSETS CONTROL

Global Magnitsky Sanctions Regulations

31 CFR Part 583

GENERAL LICENSE NO. 1

Authorizing Certain Activities Necessary to the Wind Down of Transactions Involving Ventspils Freeport Authority, Ventspils Attistibas Agentura, Biznesa Attistibas Asociacija, and Latvijas Tranzita Biznesa Asociacija

(a) Except as provided in paragraph (b) of this general license, all transactions and activities prohibited by the Global Magnitsky Sanctions Regulations, 31 CFR part 583, that are ordinarily incident and necessary to the wind down of transactions involving, directly or indirectly, one or more of the following entities, or any entity in which one or more of the following entities owns, directly or indirectly, a 50 percent or greater interest, are authorized through 12:01 a.m. eastern standard time, January 8, 2020:

• Ventspils Freeport Authority;

• Ventspils Attistibas Agentura (Ventspils Development Agency);

• Biznesa Attistibas Asociacija (Business Development Association); or

• Latvijas Tranzita Biznesa Asociacija (Latvian Transit Business Association).

(b) This general license does not authorize:

(1) Any debit to an account on the books of a U.S. financial institution of the entities listed in paragraph (a), or any entity in which one or more of the entities in paragraph (a) owns, directly or indirectly, a 50 percent or greater interest;

(2) Any transactions or dealings otherwise prohibited by the Global Magnitsky Sanctions Regulations, or any other part of 31 CFR chapter V, or any transactions or dealings with any blocked person other than the blocked persons described in paragraph (a) of this general license; or

(3) The unblocking of any property blocked pursuant to any part of 31 CFR chapter V, or any Executive order except as authorized by paragraph (a) of this general license.

Andrea Gacki,

Director, Office of Foreign Assets Control.

Dated: December 9, 2019.

OFFICE OF FOREIGN ASSETS CONTROL

Global Magnitsky Sanctions Regulations

31 CFR Part 583

GENERAL LICENSE NO. 1A

Authorizing Certain Activities Necessary to the Wind Down of Transactions Involving Ventspils Attistibas Agentura, Biznesa Attistibas Asociacija, and Latvijas Tranzita Biznesa Asociacija

(a) Except as provided in paragraph (b) of this general license, all transactions and activities prohibited by the Global Magnitsky Sanctions Regulations, 31 CFR part 583, that are ordinarily incident and necessary to the wind down of transactions involving, directly or indirectly, one or more of the following entities, or any entity in which one or more of the following entities owns, directly or indirectly, a 50 percent or greater interest, are authorized through 12:01 a.m. eastern standard time, January 8, 2020:

• Ventspils Attistibas Agentura (Ventspils Development Agency);

• Biznesa Attistibas Asociacija (Business Development Association); or

• Latvijas Tranzita Biznesa Asociacija (Latvian Transit Business Association).

(b) This general license does not authorize:

(1) Any debit to an account on the books of a U.S. financial institution of the entities listed in paragraph (a), or any entity in which one or more of the entities in paragraph (a) owns, directly or indirectly, a 50 percent or greater interest;

(2) Any transactions or dealings otherwise prohibited by the Global Magnitsky Sanctions Regulations, or any other part of 31 CFR chapter V, or any transactions or dealings with any blocked person other than the blocked persons described in paragraph (a) of this general license; or

(3) The unblocking of any property blocked pursuant to any part of 31 CFR chapter V, or any Executive order except as authorized by paragraph (a) of this general license.

(c) Effective December 18, 2019, General License 1, dated December 9, 2019, is replaced and superseded in its entirety by this General License 1A.

Andrea Gacki,

Director, Office of Foreign Assets Control.

Dated: December 18, 2019.

OFFICE OF FOREIGN ASSETS CONTROL

Global Magnitsky Sanctions Regulations

31 CFR Part 583

GENERAL LICENSE NO. 2

Authorizing Certain Wind Down and Divestment Transactions and Activities Related to Blocked Subsidiaries of the Xinjiang Production and Construction Corps (XPCC)

(a) Except as provided in paragraph (d) of this general license, all transactions and activities otherwise prohibited by the Global Magnitsky Sanctions Regulations, 31 CFR part 583 (GMSR), that are ordinarily incident and necessary to the wind down of transactions involving any entity in which the XPCC owns, directly or indirectly, a 50 percent or greater interest (Blocked XPCC Subsidiary), are authorized through 12:01 a.m. eastern daylight time, September 30, 2020.

(b) Except as provided in paragraph (d) of this general license, all transactions and activities otherwise prohibited by the GMSR that are ordinarily incident and necessary to (1) divest or transfer debt, equity, or other holdings in any Blocked XPCC Subsidiary to a non-U.S. person, or (2) facilitate the transfer of debt, equity, or other holdings in any Blocked XPCC Subsidiary by a non-U.S. person to another non-U.S. person, are authorized through 12:01 a.m. eastern daylight time, September 30, 2020.

(c) The transactions and activities authorized in paragraph (b) include facilitating, clearing, and settling transactions that are ordinarily incident and necessary to a U.S. person's divestment to a non-U.S. person of debt, equity, or other holdings in any Blocked XPCC Subsidiary.

(d) This general license does not authorize:

(1) The unblocking of any property blocked pursuant to any other part of 31 CFR chapter V;

(2) Any debit to the account of any Blocked XPCC Subsidiary on the books of a U.S. financial institution;

(3) U.S. persons to sell debt, equity, or other holdings to; to purchase or invest in debt, equity, or other holdings in; or to facilitate such transactions with, directly or indirectly, any person whose property and interests in property are blocked pursuant to the GMSR, including any Blocked XPCC Subsidiary, other than purchases of or investments in debt, equity, or other holdings in any Blocked XPCC Subsidiary that are ordinarily incident and necessary to the divestment or transfer of investments in debt, equity, or other holdings in any Blocked XPCC Subsidiary as described in paragraph (b); or

(4) Any transactions or dealings involving the property or interests in property of any person whose property and interests in property are blocked pursuant to the GMSR, including the XPCC, or any person whose property and interests in property are blocked pursuant to any other part of 31 CFR chapter V, other than Blocked XPCC Subsidiaries.

(e) U.S. persons participating in transactions authorized by this general license are required, within 10 business days after the expiration date of this general license, to file a comprehensive, detailed report of each transaction, including the name of this general license, the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email (preferred) to OFACReport@treasury.gov.

Andrea Gacki,

Director, Office of Foreign Assets Control.

Dated: July 31, 2020.

OFFICE OF FOREIGN ASSETS CONTROL

Global Magnitsky Sanctions Regulations

31 CFR Part 583

GENERAL LICENSE NO. 2A

Authorizing Certain Wind Down and Divestment Transactions and Activities Related to Blocked Subsidiaries of the Xinjiang Production and Construction Corps (XPCC)

(a) Except as provided in paragraph (d) of this general license, all transactions and activities otherwise prohibited by the Global Magnitsky Sanctions Regulations, 31 CFR part 583 (GMSR), that are ordinarily incident and necessary to the wind down of transactions involving any entity in which the XPCC owns, directly or indirectly, a 50 percent or greater interest (Blocked XPCC Subsidiary), are authorized through 12:01 a.m. eastern standard time, November 30, 2020.

(b) Except as provided in paragraph (d) of this general license, all transactions and activities otherwise prohibited by the GMSR that are ordinarily incident and necessary to (1) divest or transfer debt, equity, or other holdings in any Blocked XPCC Subsidiary to a non-U.S. person, or (2) facilitate the transfer of debt, equity, or other holdings in any Blocked XPCC Subsidiary by a non-U.S. person to another non-U.S. person, are authorized through 12:01 a.m. eastern standard time, November 30, 2020.

(c) The transactions and activities authorized in paragraph (b) include facilitating, clearing, and settling transactions that are ordinarily incident and necessary to a U.S. person's divestment to a non-U.S. person of debt, equity, or other holdings in any Blocked XPCC Subsidiary.

(d) This general license does not authorize:

(1) The unblocking of any property blocked pursuant to any other part of 31 CFR chapter V;

(2) Any debit to the account of any Blocked XPCC Subsidiary on the books of a U.S. financial institution;

(3) U.S. persons to sell debt, equity, or other holdings to; to purchase or invest in debt, equity, or other holdings in; or to facilitate such transactions with, directly or indirectly, any person whose property and interests in property are blocked pursuant to the GMSR, including any Blocked XPCC Subsidiary, other than purchases of or investments in debt, equity, or other holdings in any Blocked XPCC Subsidiary that are ordinarily incident and necessary to the divestment or transfer of investments in debt, equity, or other holdings in any Blocked XPCC Subsidiary as described in paragraph (b); or

(4) Any transactions or dealings involving the property or interests in property of any person whose property and interests in property are blocked pursuant to the GMSR, including the XPCC, or any person whose property and interests in property are blocked pursuant to any other part of 31 CFR chapter V, other than Blocked XPCC Subsidiaries.

(e) U.S. persons participating in transactions authorized by this general license are required, within 10 business days after the expiration date of this general license, to file a comprehensive, detailed report of each transaction, including the name of this general license, the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email (preferred) to OFACReport@treasury.gov.

(f) Effective September 25, 2020, General License No. 2, dated July 31, 2020, is replaced and superseded in its entirety by this General License 2A.

Andrea Gacki,

Director, Office of Foreign Assets Control.

Dated: September 25, 2020.

Bradley T. Smith,
Director, Office of Foreign Assets Control.

[FR Doc. 2023-20161 Filed 9-18-23; 8:45 am]

BILLING CODE 4810-AL-P